DEPARTMENT OF LABOR

Employment and Training Administration

[TA-W-61,638]

Belcher Corporation LLC, Currently Known as Belcher-Robinson, LLC, South Easton, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 20, 2007, applicable to workers of Belcher Corporation, South Easton, Massachusetts. The notice was published in the Federal Register on August 2, 2007 (72 FR 42436).

At the request of the State agency, the Department reviewed the certification for workers of the subject firm. The workers were engaged in the production of automotive and commercial component parts.

New information shows that in late 2007, Belcher Corporation, LLC purchased Robinson Foundry, LLC and is currently known as Belcher-Robinson, LLC.

Accordingly, the certification is being amended to include workers at Belcher Corporation LLC, South Easton, Massachusetts, whose wages are reported under the Unemployment Insurance (UI) tax account for the successor firm Belcher-Robinson, LLC.

The amended notice applicable to TA-W-61,638 is hereby issued as follows:

All workers of Belcher Corporation, LLC, currently known as Belcher-Robinson, LLC, South Easton, Massachusetts, who became totally or partially separated from employment on or after May 25, 2006, through July 20, 2009, are eligible to apply for adjustment assistance under Section 223 of the Trade Act of 1974 and are also eligible to apply for alternative trade adjustment assistance under Section 246 of the Trade Act of 1974.

Signed at Washington, DC, this 14th day of January 2009.
Elliott S. Kushner,
Certifying Officer, Division of Trade Adjustment Assistance.

[FR Doc. E9-2132 Filed 1-30-09; 8:45 am]

BILLING CODE 4510-FN-P